INTERNATIONAL TRADE COMMISSION

[Inv. No. 731-TA-762 (Remand)]

Static Random Access Memory Semiconductors From Taiwan; Notice and Scheduling of Remand Proceedings

AGENCY: United States International Trade Commission.

ACTION: Notice.

SUMMARY: The U.S. International Trade Commission (the Commission) hereby gives notice of the second remand of its final antidumping investigation No. 731-TA-762 (Final) for reconsideration in light of the order of the Court of International Trade.

EFFECTIVE DATE: May 12, 2000.

FOR FURTHER INFORMATION CONTACT: Diane Mazur, Office of Investigations, telephone 202-205-3184, or Michael Diehl, Esq., Office of the General Counsel, telephone 202-205-3095, U.S. International Trade Commission, 500 E Street, S.W., Washington, D.C. 20436. Hearing-impaired persons are advised that information on this matter can be obtained by contacting the Commission's TDD terminal on 202-205-1810. General information concerning the Commission may also be obtained by accessing its Internet server (http://www.usitc.gov).

SUPPLEMENTARY INFORMATION:

Background

In April 1998, the Commission, by a one-to-one vote, determined that the domestic industry producing static random access memory semiconductors (SRAMS) was materially injured by subject imports from Taiwan. On June 30, 1999, the Court of International Trade (CIT) remanded the determination to the Commission with instructions to explain how it ensured that it did not attribute the price depressing effects from other known factors to the subject imports. In September 1999, the Commission submitted Chairman Bragg's remand views as its “Views on Remand” in response to the order, again finding material injury to the domestic industry. On April 11, 2000, Judge Pogue remanded the Commission's remand determination for further explanation of certain matters including whether the Commission properly relied on several lost revenue allegations. On April 26, 2000, the CIT granted a consent motion setting the due date for the submission of the Commission's remand views to the CIT to Monday, June 26, 2000.

Scheduling the Vote

The Commission will vote on the remand determination at a public meeting to be held on Monday, June 12, 2000. The meeting is tentatively scheduled for 2:00 p.m.

Reopening the Record

In order to assist it in making its determination on remand, the Commission is reopening the record on remand in this investigation for the limited purpose of gathering information regarding those lost revenue allegations discussed by the court. The Commission is not reopening the record for any other purpose, except to receive any comments from the parties on new information gathered regarding the lost revenue allegations.

Participation in These Proceedings

Only those persons who were interested parties to the original administrative proceedings (i.e., persons listed on the Commission Secretary” service list) may participate in these remand proceedings.

Limited Disclosure of Business Proprietary Information (BPI) Under an Administrative Protective Order (APO) and BPI Service List

Information obtained during the remand investigation will be released to parties under the administrative protective order (“APO”) in effect in the original investigation on May 24, 2000. Pursuant to section 207.7(a) of the Commission's rules, the Secretary will make business proprietary information gathered in the final investigation and this remand investigation available to additional authorized applicants, that are not covered under the original APO, provided that the application is made not later than seven (7) days after publication of the Commission's notice or reopening the record on remand in the Federal Register. Applications must be filed for any persons on the Judicial Protective Order in the related CIT case, but not covered under the original APO. A separate service list will be maintained by the Secretary for those parties authorized to receive BPI under the APO in this remand investigation.

Written Submissions

The parties will be permitted to submit comments not to exceed 10 pages, double-spaced and single sided, on stationery measuring 8½ x 11 inches, addressing the accuracy, reliability, or probative value of new information gathered in the remand investigation regarding the lost revenue allegations. Any material in these comments that does not address these limited issues will be stricken from the record. The due date for the party comments is June 7, 2000.

All written submissions must conform with the provisions of section 201.8 of the Commission's rules; any submissions that contain BPI must also conform with the requirements of section 201.6, 207.3, and 207.7 of the Commission's rules. In accordance with section 201.16(c) and 207.3 of the rules, each document filed by a party to the investigation must be served on all other parties to the investigation (as identified by either the public or BPI service list), and a certificate of service must be timely filed. The Secretary will not accept a document for filing without a certificate of service.

Authority: This action is taken under the authority of the Tariff Act of 1930, title VII.

Issued: May 15, 2000.
By order of the Commission.
Donna R. Koehnke,
Secretary.

[FR Doc. 00-12678 Filed 5-18-00; 8:45 am]

BILLING CODE 7020-02-P